DEPARTMENT OF ENERGY

Office of Energy Efficiency and Renewable Energy

Wind and Water Power Program

AGENCY: Office of Energy Efficiency and Renewable Energy, Department of Energy.

ACTION: Notice of public meeting.

SUMMARY: All programs with the U.S. Department of Energy's (DOE) Office of Energy Efficiency and Renewable Energy (EERE) are required to undertake rigorous, objective peer review of their funded projects in order to ensure and enhance the management, relevance, effectiveness, and productivity of those projects. The 2011 Wind and Water Power Program, Water Power Peer Review Meeting will review the Program's portfolio of conventional hydropower and marine and hydrokinetic research and development and projects. The 2011 Water Power Peer Review Meeting will be held November 1 through November 3, 2011 in Alexandria, VA.

DATES: DOE will hold a public meeting on Tuesday, November 1, 2011 from 12:45 p.m. to 5:30 p.m.; Wednesday, November 2, 2011 from 8:30 a.m. to 4:35 p.m.; and Thursday, November 3, 2011, from 8:30 a.m. to 5:30 p.m. in Alexandria, VA.

ADDRESSES: The public meeting will be held at the Hilton Alexandria Mark Center, 500 Seminary Road, Alexandria, VA 22311.

FOR FURTHER INFORMATION CONTACT: Mr. Hoyt Battey, Office of Energy Efficiency and Renewable Energy, U.S. Department of Energy, 1000 Independence Avenue, SW., Washington, DC 20585. Telephone: (202) 586-0143. E-mail: Hoyt.Battey@ee.doe.gov.

SUPPLEMENTARY INFORMATION: The purpose of this meeting is to:

• Review the strategy and goals of the Water Power Program; and

• Review the progress and accomplishments of the Program's conventional hydropower, and marine and hydrokinetics research and projects funded in FY2009 through FY2011

The purpose of this meeting is for the review of the Program's conventional hydropower, and marine and hydrokinetics research and projects funded in FY2009 through FY2011. Participants should limit information and comments to those based on personal experience, individual advice, information, or facts regarding this topic. It is not the object of this session to obtain any group position or consensus. Rather, this meeting is an opportunity for the peer reviewers to gain an individual understanding of the research and projects. To most effectively use the limited time, please refrain from passing judgment on another participant's recommendations or advice, and instead, concentrate on your individual experiences. Based upon the review of individual projects and the overall Water Power Program research portfolio, a report will be compiled by DOE, which will be publically posted on the DOE Wind and Water Power Program website.

Public Participation: Principal Investigators, expert reviewers, Water Power Program staff, and contract support staff will be in attendance. The event is open to the public based on space availability. Limited time for questions and answers are included for each project, however, oral questions from expert reviewers will be given priority. Additionally, questions may be submitted in writing during the meeting.

Pre-Registration: To pre-register, please contact Ms. Stacey Young via e-mail at Stacey_Young@sra.com or by telephone at 240-223-5578. Participants interested in attending should indicate the category or categories you would like to observe, your name, company name or organization (if applicable), telephone number, and email no later than the close of business on Monday, October 28 2011. All Principal Investigators required to present at the meeting must pre-register. Additionally, all expert reviewers, Water Power Program staff, and support contract staff must pre-register.

Agenda: Presentations from industry, academia, and National Laboratories will be time limited. Depending on the type of project, Principal Investigators will have anywhere from 5 to 60 minutes to present. Time is also allotted for question and answer sessions between the Principal Investigators and the expert reviewers.

Information on Services for Individuals with Disabilities: Individuals requiring special accommodations at the meeting, please contact Ms. Young no later than the close of business on October 28, 2011.

Minutes: The minutes of the meeting will be available for public review and copying at the DOE EERE Online Publication and Product Library at: http://www1.eere.energy.gov/library/default.aspx.

Issued in Washington, DC, on October 19, 2011.
Jose Zayas,
Wind and Water Power Program Manager, Office of Energy Efficiency and Renewable Energy.

[FR Doc. 2011-27682 Filed 10-25-11; 8:45 am]

BILLING CODE 6450-01-P